DEPARTMENT OF TRANSPORTATION

National Highway Traffic Safety Administration

[Docket No. NHTSA 2005-20545; Notice 2]

IC Corporation, Grant of Petition for Decision of Inconsequential Noncompliance

IC Corporation (IC) has determined that certain school buses that it manufactured in 2001 through 2004 do not comply with S5.2.3.2(a)(4) of 49 CFR 571.217, Federal Motor Vehicle Safety Standard (FMVSS) No. 217, “Bus emergency exits and window retention and release.” Pursuant to 49 U.S.C. 30118(d) and 30120(h), IC has petitioned for a determination that this noncompliance is inconsequential to motor vehicle safety and has filed an appropriate report pursuant to 49 CFR Part 573, “Defect and Noncompliance Reports.” Notice of receipt of a petition was published, with a 30-day comment period, on March 23, 2005, in the Federal Register (70 FR 14748). NHTSA received no comments.

Affected are a total of approximately 40 school buses manufactured from August 15, 2001 to September 29, 2004. S5.2.3.2(a)(4) of FMVSS No. 217 states “No two side emergency exit doors shall be located, in whole or in part, within the same post and roof bow panel space.” The noncompliant vehicles have two side emergency exit doors located opposite each other within the same post and roof bow panel space.

IC believes that the noncompliance is inconsequential to motor vehicle safety and that no corrective action is warranted. IC states that NHTSA's main purpose in updating FMVSS No. 217 was,

to ensure that emergency exit capability would be proportional to the maximum occupant capacity; to improve access to side emergency doors; to improve visibility of exits; and to facilitate the exiting of occupants from a bus after an accident * * *. None of these primary objectives were compromised on the 40 units covered by this petition.

IC states that it reviewed comments in response to the NPRM to update FMVSS No. 217 and determined that they

* * * were related to the fatigue strength of a bus body of this configuration. IC Corporation was unable to find comments relating to the safe exit of occupants in the event of an accident as a result of this door arrangement. Based on this background, IC Corporation presents arguments for consideration regarding both the structural and safety aspects of the rule. Finally, we present bus customer feedback based on interviews conducted with some of the bus customers affected by this non-compliance.

IC further states that it is “not aware of any research that indicates that emergency exits should not be located across from each other for safety of egress reasons alone.” IC say it believes the requirement for two exit doors located across from each other in the same post and roof bow appears “to all be related to the issue of the structural integrity of a bus body of this configuration.”

IC indicates that it “has no reports of any failures of panels or the structure in the area of the left or right emergency doors” of the noncompliant vehicles. Nor has IC received failure reports of panels or the structure for two other types of buses it manufactures. It describes these two other types of buses. One is “commercial buses with a passenger door centered on the right side of the bus and large double bow windows on the left side within the same post and roof bow panel space.” Another is buses with “the combination of a left side emergency door on the left side and a wheelchair door on the right side within the same post and roof bow panel space.” IC further asserts that “NHTSA does not restrict other combinations of doors and windows within the same roof bow space.”

IC states that it will extend to the owners of the noncompliant vehicles a 15-year warranty for any structural or panel failures related to the location of the doors, so that “corrections could be made long before any possible fatigue problems * * * progress into major structural issues.”

The Agency agrees with IC that in this case the noncompliance does not compromise safety in terms of emergency exit capability in proportion to maximum occupant capacity, access to side emergency doors, visibility of the exits, or the ability of bus occupants to exit after an accident. IC has corrected the problem.

In consideration of the foregoing, NHTSA has decided that the petitioner has met its burden of persuasion that the noncompliance described is inconsequential to motor vehicle safety. Accordingly, IC's petition is granted and the petitioner is exempted from the obligation of providing notification of, and a remedy for, the noncompliance.

Authority: (49 U.S.C. 30118, 30120; delegations of authority at CFR 1.50 and 501.8)

Issued on: April 29, 2005.
Stephen R. Kratzke,
Associate Administrator for Rulemaking.

[FR Doc. 05-9169 Filed 5-6-05; 8:45 am]

BILLING CODE 4910-59-P